FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than May 10, 2007.

A. Federal Reserve Bank of San Francisco (Tracy Basinger, Director, Regional and Community Bank Group) 101 Market Street, San Francisco, California 94105-1579:

1. Frank W. Yuen, Esq, Nassau, Bahamas; to acquire additional voting shares of Concord Place, Inc., Nassau, Bahamas, and thereby indirectly acquire Los Angeles National Bank, Buena Park, California.

Board of Governors of the Federal Reserve System, April 20, 2007.
Jennifer J. Johnson,
Secretary of the Board.

[FR Doc. E7-7874 Filed 4-24-07; 8:45 am]

BILLING CODE 6210-01-S